DEPARTMENT OF COMMERCE

National Oceanic and Atmospheric Administration

[I.D. 031507B]

Draft Programmatic Environmental Impact Statement; Seismic Surveys in the Beaufort and Chukchi Seas, Alaska

AGENCY: National Marine Fisheries Service (NMFS), National Oceanic and Atmospheric Administration (NOAA), Commerce.

ACTION: Notice of Availability of a Draft Programmatic Environmental Impact Statement; notice of public hearings.

SUMMARY: NMFS and the Minerals Management Service (MMS) announce the availability of a Draft Programmatic Environmental Impact Statement (Draft PEIS) for Seismic Surveys in the Beaufort and Chukchi Seas, Alaska and the times, dates, and locations for public hearings in order to receive comments from the public on the Draft PEIS.

DATES: Public hearings on the Draft PEIS are scheduled as follows:

1. April 10, 2007, 6:30 p.m. - 9 p.m., Anchorage, AK.

2. April 17, 2007, 7 p.m. - 10 p.m. Nuiqsuk, AK

3. April 18, 2007, 7 p.m. - 10 p.m. Barrow, AK

4. April 23, 2007, 7 p.m. - 10 p.m. Point Hope, AK

5. April 24, 2007, 7 p.m. - 10 p.m. Point Lay, AK

6. April 25, 2007, 7 p.m. - 10 p.m. Wainwright, AK

Written comments will be accepted at these hearings as well as during the comment period. Written comments must be postmarked no later than May 14, 2007.

ADDRESSES: Written comments on the Draft PEIS should be addressed to Mr. P. Michael Payne, Chief of the Permits, Conservation and Education Division, Office of Protected Resources, National Marine Fisheries Service, 1315 East-West Highway, Silver Spring, MD 20910-3225. The mailbox address for providing e-mail comments is PR1.ALASKAEIS@noaa.gov. Comments sent via e-mail, including all attachments, must not exceed a 10-megabyte file size.

A copy of the Draft PEIS may be obtained by writing to this address or by telephoning the contact listed here and is also available at: http://www.mms.gov/alaska/.

The public hearings will be held at the following locations:

1. 3801 Centerpoint Drive, Anchorage, AK

2. City Hall, Nuiqsut, AK

3. Inupiat Heritage Center, Barrow, AK

4. Qalgi Center (City Hall), Point Hope, AK

5. High School Gymnasium, Point Lay, AK

6. Robert James Community Center, Wainwright, AK

FOR FURTHER INFORMATION CONTACT: Kenneth R. Hollingshead, (301) 713-2289, ext 128.

SUPPLEMENTARY INFORMATION:

Summary

On March 30, 2007, notice was published in the Federal Register of the availability of the subject Draft PEIS for review and comments. NMFS and MMS will hold public hearings under the National Environmental Policy Act (NEPA) to inform interested parties of the alternatives analyzed by NMFS and MMS and to accept comments on all aspects of the Draft PEIS.

Background

The NMFS and MMS have jointly prepared the subject Draft PEIS in order to fully describe and analyze the potential significant impacts on marine mammals, other Arctic marine life, and native subsistence lifestyles by reasonably foreseeable proposed offshore oil and gas seismic surveys off Alaska. This document also addresses a number of mitigation measures that have been identified as alternatives for potentially reducing impacts on identified affected environments, particularly marine mammals and the endangered bowhead whale. This PEIS will be used for issuing: (1) permits for oil and gas exploration in the Arctic Ocean by MMS, and (2) Incidental Harassment Authorizations (IHAs) to the seismic industry by NMFS to take marine mammals incidental to oil and gas seismic surveys in the Arctic Ocean. As sounds generated by seismic survey operations and related activities have the potential to adversely impact marine mammals and other marine resources, IHAs would be warranted, under the Marine Mammal Protection Act, in order to legally harass marine mammals (particularly bowhead whales), incidental to conducting seismic surveys.

Summary of Draft PEIS

Activity

The Draft PEIS describes and analyzes the potential significant environmental impacts related to reasonably foreseeable proposed geophysical exploration using seismic surveys in waters of the Arctic Alaska Outer Continental Shelf. Specifically, the Draft PEIS assesses the environmental impacts of up to 6 consecutive surveys each in the Beaufort and Chukchi seas using deep-penetration 2D and 3D streamer and ocean bottom cable surveys, and high-resolution surveys and the issuance of IHAs to take marine mammals by these activities. As the sound generated by a seismic-survey operation and related activities has the potential to adversely impact marine mammals and other marine resources, IHAs would be warranted in order to incidentally harass marine mammals (particularly bowhead whales) while conducting seismic surveys.

Impacts

The best available scientific information indicates that marine seismic surveys may adversely impact archaeological sites, marine invertebrates, coastal and marine birds, essential fish habitat, marine fish, commercial fisheries, marine mammals, the sociocultural environment, and subsistence-harvest activities. Therefore, the analysis contained in the Draft PEIS focused on these resource categories. Of critical importance to NMFS for the proposed action of issuing IHAs are the impacts on marine mammals (particularly bowhead whales) and subsistence harvests from acoustic sounds. However, we expect these impacts can be mitigated through incorporation of specified mitigation measures.

Alternatives/Mitigations

NMFS/MMS have identified 9 alternatives, including the no action alternative. Analyzed alternatives range from issuance of MMS permits with and without mitigation measures. Specifically, the alternatives include different combinations of safety and exclusion zones for preventing injury (180/190 dB), limiting behavioral harassment (160 dB) and limiting impacts on feeding and migrating bowhead cow calf pairs (160 dB/120 dB, respectively). An identified alternative to protecting feeding and migration areas through specific temporal/spatial/operational restrictions to further reduce impacts to feeding/socializing/ migrating aggregations of bowhead and gray whales and bowhead cow/calf pairs has also been analyzed. At this time, MMS and NMFS have not identified a preferred alternative.

Special Accommodations

These meetings are accessible to people with disabilities. Requests for sign language interpretation or other auxiliary aids should be directed to the person listed above (see FOR FURTHER INFORMATION CONTACT), at least five business days before the scheduled meeting date.

Dated: March 27, 2007.
P. Michael Payne,
Acting Deputy Director, Office of Protected Resources, National Marine Fisheries Service.

[FR Doc. E7-6414 Filed 4-5-07; 8:45 am]

BILLING CODE 3510-22-S